DEPARTMENT OF COMMERCE

National Oceanic and Atmospheric Administration

Availability of Final Evaluation Findings of State Coastal Management Programs and National Estuarine Research Reserves

AGENCY: Office for Coastal Management, National Ocean Service, National Oceanic and Atmospheric Administration, Department of Commerce.

ACTION: Notice of availability.

SUMMARY: Notice is hereby given of the availability of final evaluation findings for seven State and territory coastal management programs (i.e., Alabama, Connecticut, Guam, Michigan, Ohio, Texas, and Virginia), and four national estuarine research reserves (i.e., He'eia, Grand Bay, Narragansett Bay, and Waquoit Bay), which were prepared pursuant to sections 312 and 315 of the Coastal Zone Management Act (CZMA).

ADDRESSES: Copies of these final evaluation findings may be found at https://coast.noaa.gov/czm/evaluations/evaluation_findings/index.html or by submitting a written request to Michael Migliori at Michael.Migliori@noaa.gov.

FOR FURTHER INFORMATION CONTACT: Michael Migliori, Lead Evaluator, NOAA Office for Coastal Management, by phone at (443) 332-8936 or email at Michael.Migliori@noaa.gov.

SUPPLEMENTARY INFORMATION: The NOAA Office for Coastal Management has completed the coastal zone management program final evaluation findings for the States of Alabama, Connecticut, Michigan, Ohio, Texas, and Virginia and the Territory of Guam. The States and territory were found to be implementing and enforcing their federally approved coastal zone management programs, addressing the national coastal management objectives identified in CZMA section 303(2), and adhering to the programmatic terms of their financial assistance awards. In addition, the NOAA Office for Coastal Management has completed the final evaluation findings for He'eia, Grand Bay, Narragansett Bay, and Waquoit Bay National Estuarine Research Reserves. The reserves were found to be adhering to the terms of the reserves' financial assistance awards and to the programmatic requirements of the Coastal Zone Management Act, including the requirements of CZMA section 315(b)(2), and its implementing regulations.

NOAA published in the Federal Register notices for public meetings and opportunities to submit public comments on the evaluation of these State coastal zone management programs and national estuarine research reserves. See 88 FR 42917 (July 5, 2023, Alabama), 87 FR 47983 (August 5, 2022, Connecticut), 88 FR 15376 (March 13, 2023, Guam), 87 FR 41665 (July 13, 2022, Michigan), 87 FR 59062 (September 29, 2022, Ohio), 87 FR 48156 (August 8, 2022, Texas), 87 FR 41673 (July 13, 2022, Virginia), 88 FR 30950 (May 15, 2023, He'eia), 88 FR 50847 (August 2, 2023, Grand Bay), 88 FR 59871 (August 30, 2023, Narragansett Bay), and 87 FR 27989 (May 10, 2022, Waquoit Bay). NOAA addressed the public comments it received in the final evaluation findings.

Authority: 16 U.S.C. 1458 and 1461(f); 15 CFR 921.40 and 923.133.

Keelin Kuipers,
Deputy Director, Office for Coastal Management, National Ocean Service, National Oceanic and Atmospheric Administration.

[FR Doc. 2024-08797 Filed 4-24-24; 8:45 am]

BILLING CODE 3510-08-P